DEPARTMENT OF ENERGY

Federal Energy Regulatory Commission

[Docket No. AD20-3-000]

Review of Cost Submittals by Other Federal Agencies for Administering Part I of the Federal Power Act; Notice Requesting Questions and Comments on Fiscal Year 2019 Other Federal Agency Cost Submissions

In its Order On Rehearing Consolidating Administrative Annual Charges Bill Appeals And Modifying Annual Charges Billing Procedures, 109 FERC ¶ 61,040 (2004) (October 8 Order), the Commission set forth an annual process for Other Federal Agencies (OFAs) to submit their costs related to Administering Part I of the Federal Power Act. Pursuant to the established process, the Chief of Financial Operations, Financial Management Division, Office of the Executive Director, on October 4, 2019, issued a letter requesting the OFAs to submit their costs by December 31, 2019 using the OFA Cost Submission Form.

Upon receipt of the agency submissions, the Commission posted the information in eLibrary, and issued, on March 12, 2020, a notice announcing the date for a technical conference to review the submitted costs. On March 26, 2020 the Commission held the technical conference. Technical conference transcripts, submitted cost forms, and detailed supporting documents are all available for review under Docket No. AD20-3. These documents are accessible on-line at http://www.ferc.gov, using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Interested parties may file specific questions and comments on the FY 2019 OFA cost submissions with the Commission under Docket No. AD20-3, no later than May 8, 2020. Once filed, the Commission will forward the questions and comments to the OFAs for response.

Anyone with questions pertaining to the technical conference or this notice should contact Raven A. Rodriguez at (202) 502-6276 (via email at raven.rodriguez@ferc.gov).

Dated: April 24, 2020.
Nathaniel J. Davis, Sr.,
Deputy Secretary.

[FR Doc. 2020-09191 Filed 4-29-20; 8:45 am]

BILLING CODE 6717-01-P